FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Emergency Management Exercise Reporting System (EMERS)

Type of Information Collection: Reinstatement, with change of a previously approved collection for which approval has expired.

OMB Number: 3067-0248.

Abstract: EMERS is an automated data collection software program that captures the positive and negative results of emergency management exercise and actual disaster occurrences. This data is used to analyze the capabilities of State and local governments to respond to disasters. FEMA will use this data to also determine strengths and weaknesses and actions that can be taken at the national level to improve programs. State and local governments use EMERS data to track exercises activity on an annual basis and to use the lessons learned for the development of corrective action plans, strategic planning and for State/local annual basis and to use the lessons learned for the development of corrective action plans, strategic planning and for State/local budgeting.

Affected Public: State, Local or Tribal Government.

Number of Respondents: 3,056.

Estimated Time per Respondent: 1 hour.

Estimated Total Annual Burden Hours: 4,668.

Frequency of Response: On Occasion.

COMMENTS: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities and Services Management Division, Administration and Resource Planning Directorate, Federal Emergency Management Agency, 500 C Street, SW, Room 316, Washington, DC 20472, telephone number (202) 646-2625 or facsimile number (202) 646-3347, or e:mail muriel.anderson@fema.gov.

Dated: October 1, 2001
Reginald Trujillo,
Branch Chief, Program Services and Systems Branch, Facilities and Services Management Division, Administration and Resource Planning Directorate.

[FR Doc. 01-25244 Filed 10-5-01; 8:45 am]

BILLING CODE 6718-01-P